NUCLEAR REGULATORY COMMISSION

[Docket No. NRC-2013-0221]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 8, 2013 (78 FR 67203).

1. Type of submission, new, revision, or extension: Revision.

2. The title of the information collection: 10 CFR Part 35, “Medical Use of Byproduct Material.”

3. Current OMB approval number: 3150-0010.

4. The form number if applicable: N/A.

5. How often the collection is required: Reports of medical events, doses to an embryo/fetus or nursing child, or leaking sources are reportable on occurrence. A specialty board certification entity desiring to be recognized by the NRC must submit a one-time request for recognition and infrequently revise the information.

6. Who will be required or asked to report: Physicians and medical institutions holding an NRC license authorizing the administration of byproduct material or radiation from this material to humans for medical use. A specialty board certification entity desiring to have its certifying process and board certificate recognized by the NRC.

7. An estimate of the number of annual responses: 240,145 ((NRC: 31,431 + 1,035 recordkeepers = 32,466) + (Agreement States: 201,053 + 6,624 recordkeepers + 2 specialty certification entity = 207,679)).

8. The estimated number of annual respondents: 7,661 (1,035 for NRC Licenses, 6,624 for Agreement States, and 2 for specialty board certification entities).

9. An estimate of the total number of hours needed annually to complete the requirement or request: 1,066,031 hours (144,203 for NRC Licenses and 921,826 for Agreement States + 2 for specialty board certification entities).

10. Abstract: Part 35 of Title 10 of the Code of Federal Regulations (10 CFR), “Medical Use of Byproduct Material,” contains NRC's requirements and provisions for the medical use of byproduct material and for issuance of specific licenses authorizing the medical use of this material. These requirements and provisions provide for the radiation safety of workers, the general public, patients, and human research subjects. Part 35 contains mandatory requirements that apply to NRC licensees authorized to administer byproduct material or radiation therefrom to humans for medical use. These requirements also provide voluntary provisions for specialty boards to apply to have their certification processes recognized by the NRC so that their board certified individuals can use the certifications as proof of training and experience.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by March 7, 2014. Comments received after this date will be considered if it is practical to do so, but assurance of consideration cannot be given to comments received after this date.

Danielle Jones, Desk Officer, Office of Information and Regulatory Affairs (3150-0010), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 31st day of January, 2014.
For the Nuclear Regulatory Commission.
Brenda Miles,
Acting NRC Clearance Officer, Office of Information Services.

[FR Doc. 2014-02424 Filed 2-4-14; 8:45 am]

BILLING CODE 7590-01-P